SMALL BUSINESS ADMINISTRATION

Region IV, North Florida District, Jacksonville, Florida, Advisory Council Meeting; Public Meeting

The U.S. Small Business Administration, North Florida District Office, Jacksonville, Florida, Advisory Council will hold a public meeting from 12:00 p.m. to 2 p.m., eastern standard time July 11, 2001, at the North Florida District Office, 7825 Baymeadows Way, Suite 100-B, in the Conference Room, to discuss such matters as may be presented by members, staff of the U.S. Small Business Administration, or others present.

Anyone wishing to make an oral presentation to the Board must contact Claudia Taylor, in writing by letter or fax no later than June 25, 2001, in order to be put on the agenda. For further information, write or call Claudia D. Taylor, U.S. Small Business Administration, 7825 Baymeadows Way, Suite 100-B, Jacksonville, Florida 32256-7504, telephone (904) 443-1933, fax (904) 443-1980.

Nancyellen Gentile,
Committee Management Office.

[FR Doc. 01-15737 Filed 6-21-01; 8:45 am]

BILLING CODE 8025-01-P